DEPARTMENT OF HEALTH AND HUMAN SERVICES

Health Resources and Services Administration

Agency Information Collection Activities: Submission to OMB for Review and Approval; Information Collection Request Title: Rural Health Network Development Planning Performance Improvement and Measurement System Database, OMB No. 0915-0384—Extension

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than July 24, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Rural Health Network Development Planning Performance Improvement and Measurement System Database, OMB No. 0915-0384—Extension.

Abstract: The purpose of the Rural Health Network Development Planning (Network Planning) program is to assist in the development of an integrated health care network, specifically for entities that do not have a history of formal collaborative efforts. Health care networks can be an effective approach to help smaller rural health care providers and health care service organizations align resources, achieve economies of scale and efficiency, and address challenges more effectively as a group than as single providers. The Network Planning program promotes the planning and development of healthcare networks to: (1) Achieve efficiencies; (2) expand access to, coordinate, and improve the quality of essential health care services; and (3) strengthen the rural health care system as a whole.

Need and Proposed Use of the Information: Performance measures for the Network Planning program serve the purpose of quantifying awardee-level data that conveys the successes and challenges associated with the grant award. These measures and aggregate data substantiate and inform the objectives of the program. The approved measures encompass the following principal topic areas: network infrastructure, network collaboration, sustainability, and network assessment.

Likely Respondents: The respondents for these measures are Network Planning award recipients.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours, which are unchanged from the currently approved form, are summarized in the table below.

Total Estimated Annualized Burden Hours:

Form name | Number of respondents | Number of responses per respondent | Total responses | Average burden per response (in hours) | Total burden hours
Rural Health Network Development Planning Program Performance Improvement Measurement System | 21 | 1 | 21 | 1 | 21
Total | 21 |  | 21 |  | 21

Jason E. Bennett,
Director, Division of the Executive Secretariat.

[FR Doc. 2017-13019 Filed 6-21-17; 8:45 am]

BILLING CODE 4165-15-P